DEPARTMENT OF DEFENSE

Office of the Secretary

[Transmittal No. 22-11]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-11 with attached Policy Justification and Sensitivity of Technology.

Dated: May 15, 2024.
Aaron T. Siegel,
Alternate OSD Federal Register Liaison Officer, Department of Defense.

BILLING CODE 6001-FR-P

BILLING CODE 6001-FR-C

Transmittal No. 22-11

Notice of Proposed Issuance of Letter of Offer Pursuant to Section 36(b)(1) of the Arms Export Control Act, as Amended

(i) Prospective Purchaser: Government of Egypt

(ii) Total Estimated Value:

Major Defense Equipment * | $1.725 billion.
Other | $.875 billion.
TOTAL | $2.600 billion.

Funding Source: Combined National Funds and Foreign Military Financing (FMF)

(iii) Description and Quantity or Quantities of Articles or Services under Consideration for Purchase:

Major Defense Equipment (MDE):

Twenty-three (23) CH-47F Chinook Helicopters

Fifty-six (56) T-55-GA-714A Engines (46 installed, 10 spares)

Fifty-two (52) Embedded Global Positioning System (GPS) Inertial Navigation Systems (INS) (EGI) (46 installed, 6 spares)

Twenty-nine (29) AN/AAR-57 Common Missile Warning Systems (CMWS) (23 installed, 6 spares)

Seventy-five (75) M-240 Machine Guns (69 installed, 6 spares)

Non-MDE:

Also included is Common Missile Warning System (CMWS) classified software; AN/APR-39 Radar Warning Receivers (RWR); AN/AVR-2B Laser Detecting Sets (LDS); High Frequency (HF) radios; Aircraft Survivability Equipment (ASE) (including 25.4mm decoy cartridges, impulse cartridges for cable cutters and aircraft cartridges); AN/ARN-147 Very High Frequency (VHF) Omni Directional Radio Range/Instrument Landing System (VOR/ILS) receivers; AN/ARN-153 Tactical Airborne Navigation System (TACAN) radios; AN/APN-209 radar altimeters; AN/AVS-6 Night Vision Devices (NVD); 7.62mm ammunition; items and services to support the mission equipment; hardware and services required to implement additional aircraft options such as: rescue hoists; external cargo slings and nets; Bambi fire buckets; Fast Rope Insertion Extraction Systems (FRIES); Cargo On/Off Loading Systems (COOLS); Extended Range Fuel Systems (ERFS); upgrade to the maintenance hangar and additional parking pads; special tools and test equipment; ground support equipment; airframe and engine spare parts; technical data; publications; Maintenance Work Orders/Engineering Change Proposals (MWO/ECPs); technical assistance; transportation; training; and other related elements of logistics and program support.

(iv) Military Department: Army (EG-B-VGG)

(v) Prior Related Cases, if any: EG-B-KXA, EG-B-BEL

(vi) Sales Commission, Fee, etc., Paid, Offered, or Agreed to be Paid: None known at this time

(vii) Sensitivity of Technology Contained in the Defense Article or Defense Services Proposed to be Sold: See Attached Annex

(viii) Date Report Delivered to Congress: May 26, 2022

* As defined in Section 47(6) of the Arms Export Control Act.

POLICY JUSTIFICATION

Egypt—CH-47F Chinook Helicopters

The Government of Egypt has requested to buy twenty-three (23) CH-47F Chinook helicopters; fifty-six (56) T-55-GA-714A engines (46 installed, 10 spares); fifty-two (52) Embedded Global Positioning System (GPS) Inertial Navigation Systems (INS) (EGI) (46 installed, 6 spares); twenty-nine (29) AN/AAR-57 Common Missile Warning Systems (CMWS) (23 installed, 6 spares); and seventy-five (75) M-240 machine guns (69 installed, 6 spares). Also included is Common Missile Warning System (CMWS) classified software; AN/APR-39 Radar Warning Receivers (RWR); AN/AVR-2B Laser Detecting Sets (LDS); High Frequency (HF) radios; Aircraft Survivability Equipment (ASE) (including 25.4mm decoy cartridges, impulse cartridges for cable cutters and aircraft cartridges); AN/ARN-147 Very High Frequency (VHF) Omni Directional Radio Range/Instrument Landing System (VOR/ILS) receivers; AN/ARN-153 Tactical Airborne Navigation System (TACAN) radios; AN/APN-209 radar altimeters, AN/AVS-6 Night Vision Devices (NVD); 7.62mm ammunition; items and services to support the mission equipment; hardware and services required to implement additional aircraft options such as: rescue hoists; external cargo slings and nets; Bambi fire buckets; Fast Rope Insertion Extraction Systems (FRIES); Cargo On/Off Loading Systems (COOLS); Extended Range Fuel Systems (ERFS); upgrade to the maintenance hangar and additional parking pads; special tools and test equipment; ground support equipment; airframe and engine spare parts; technical data; publications; Maintenance Work Orders/Engineering Change Proposals (MWO/ECPs); technical assistance; transportation; training; and other related elements of logistics and program support. The total estimated program cost is $2.6 billion.

This proposed sale will support the foreign policy and national security of the United States by helping to improve the security of a Major Non-North Atlantic Treaty Organization Ally that continues to be an important strategic partner in the Middle East.

The proposed sale will improve Egypt's heavy lift capability. Egypt will use this enhanced capability to strengthen its homeland defense and deter regional threats. Egypt will have no difficulty absorbing this equipment and services into its armed forces.

The proposed sale of this equipment and support will not alter the basic military balance in the region.

The principal contractor will be Boeing Helicopter Company, Philadelphia, PA. There are no known offset agreements proposed in connection with this potential sale.

Implementation of this proposed sale will require the assignment of seven (7) U.S. Government and six (6) contractor representatives to Egypt to support delivery of the CH-47 Chinook aircraft and to provide support and equipment familiarization. Two (2) contractors would be deployed to Egypt for approximately two (2) years plus options for additional years for follow-on support of equipment and five (5) military personnel (Technical Assistance Field Team/TAFT) would be deployed to Egypt for approximately two (2) years.

There will be no adverse impact on U.S. defense readiness as a result of this proposed sale.

Transmittal No. 22-11

Notice of Proposed Issuance of Letter of Offer Pursuant to Section 36(b)(1) of the Arms Export Control Act

Annex

Item No. vii

(vii) Sensitivity of Technology:

1. The CH-47F is a twin engine, heavy lift helicopter. The CH-47F has the common avionics architecture system (CAAS) cockpit, which provides aircraft system, flight, mission, and communication management systems. The CAAS includes five multifunction displays (MFDs), two general purpose processor units (GPPUs), two control display units (CDUs) and two data concentrator units (DCUs). The Navigation System has two Embedded GPS/INS (EGIs), two Digital Advanced Flight Control System (DAFCS), one AN/ARN-147 (VOR/ILS marker Beacon System), one ARN-153 Tactical Air Navigation System (TACAN), two air data computers, and one AN/APN-209 Radar Altimeter system. The communications suite is as follows: two each Multi-mode radios providing VHF FM, VHF-AM, UHF, HQ II and Demand Assigned Multiple Access (DAMA) Satellite Communications (SATCOM), and one each High Frequency (HF) Radio. Aircraft survivability equipment (ASE) will consist of the AN/AAR-57 Common Missile Warning System (CMWS), and the AN/APR-39 Radar Signal Detecting Set (RSDS).

• The AN/AAR-57 Common Missile Warning System (CMWS) is the detection component of the suite of countermeasures designed to increase survivability of current generation combat aircraft and specialized special operations aircraft against the threat posed by infrared guided missiles.

• The AN/APR-39 Radar Signal Detecting Set provides the pilot with visual and audible warning when a hostile fire-control threat is encountered.

• The AN/AVS-6 Night Vision Device (NVD) is a third-generation, helmet-mounted, direct-view, image-intensification device. It enables Aviators to operate more effectively and safely during lowlight and degraded battlefield conditions.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the Government of Egypt can provide substantially the same degree of protection for the sensitive technology being released as the U.S. Government. This sale is necessary in furtherance of the U.S. foreign policy and national security objectives outlined in the Policy Justification.

5. All defense articles and services listed in this transmittal have been authorized for release and export to the Government of Egypt.

[FR Doc. 2024-11035 Filed 5-17-24; 8:45 am]

BILLING CODE 6001-FR-P